DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The National Health Service Corps (NHSC) Loan Repayment Program (LRP) (OMB No. 0915-0127)—Revision

The NHSC LRP was established to assure an adequate supply of trained primary care health professionals to provide services in the neediest Health Professional Shortage Areas (HPSAs) of the United States. Under this program, the Department of Health and Human Services agrees to repay the educational loans of the primary care health professionals. In return, the health professionals agree to serve for a specified period of time in a federally-designated HPSA approved by the Secretary for LRP participants.

This request for extension of OMB approval will include the NHSC LRP Application, Loan Verification Form, Site Information Form, Request for Method of Advanced Loan Repayment Form and Authorization to Release Information Form.

The estimate of burden is as follows:

Type of respondents | Number of respondents | Responses per respondent | Total responses | Hours per responses | Total burden hours
Applicants | 1430 | *1 | 1430 | 1.5 | 2145
Lenders | 70 | **1 | 70 | .25 | 18
Total | 1500 |  | 1500 |  | 2163
*An applicant response includes completion of one of each of the above-listed forms, and may include the completion of additional Loan Verification Forms (one for each educational loan for which he or she is seeking repayment).
**A lender response includes completion of one Loan Verification Form for each educational loan of an applicant it holds.

Written comments and recommendations concerning the proposed information collection should be sent within 30 days of this notice to: John Kraemer, Desk Officer, Human Resources and Housing Branch, Office of Management and Budget, New Executive Office Building, Room 10235, Washington, DC 20503.

Dated: April 18, 2005.
Tina M. Cheatham,
Director, Division of Policy Review and Coordination.

[FR Doc. 05-8106 Filed 4-21-05; 8:45 am]

BILLING CODE 4165-15-P